DEPARTMENT OF ENERGY

Federal Energy Regulatory Commission

18 CFR Parts 35, 141 and 385

[Docket No. RM02-9-000; Order No. 626]

Electronic Filing of FERC Form 1, and Elimination of Certain Designated Schedules In FERC Form Nos. 1 and 1-F

Issued: May 16, 2002.

AGENCY: Federal Energy Regulatory Commission, DOE.

ACTION: Final rule.

SUMMARY: The Federal Energy Regulatory Commission (Commission) is amending its regulations under the Federal Power Act (FPA) to provide for the electronic filing of its Form 1 (Form 1) and the elimination of certain schedules on the Form 1 and Form 1-F (Form 1-F). Commencing with the report for calendar year 2002, due April 30, 2003, only electronic filings will be accepted; the paper filing requirement will be eliminated for the Form 1. Form 1-F respondents must still submit an original and one conformed paper copy of a completed form by March 31, 2003. Also commencing with the report for calendar year 2002, for both the Forms 1 and 1-F, the schedules identified below will be eliminated. This automation of the Form 1 and the elimination of designated schedules to both the Forms 1 and 1-F yield significant benefits to respondents, the Commission and to the electric industry as a whole. These benefits include more timely analysis and publication of the data, increased data analysis capability, reduced cost of data entry and retrieval, and an overall reduction in filing burden.

EFFECTIVE DATE: This final rule is effective June 24, 2002.

FOR FURTHER INFORMATION CONTACT:

Patricia W. Morris (Technical Information), Office of Markets, Tariffs and Rates, FERC, 888 First Street, NE., Washington, DC 20426, (202) 208-6990, patricia.morris@ferc.fed.us.

Bolton Pierce (Electronic System), Office of Information Technology, FERC, 888 First Street, NE., Washington, DC 20426, (202) 208-1803, bolton.pierce@ferc.gov.

Julia Lake (Legal Information), Office of General Counsel, FERC, 888 First Street, NE., Washington, DC 20426, (202) 208-2019, julia.lake@ferc.gov.

SUPPLEMENTARY INFORMATION:

Before Commissioners: Pat Wood, III, Chairman; William L. Massey, Linda Breathitt, and Nora Mead Brownell.

I. Introduction

This Final Rule revises parts 141 and 385 of the Commission's regulations to require the electronic filing of FERC Form 1 “Annual Report of Major Electric Utilities, Licensees and Others” (Form 1) and the elimination of designated schedules from both the Form 1 and Form 1-F “Annual Report for Nonmajor Public Utilities, Licensees and Others” (Form 1-F). Beginning with reports for the calendar year 2002, due no later than April 30, 2003, there will be no further requirement for a hard copy Form 1 filing. The Commission has thoroughly tested the software and related elements of the electronic filing mechanism and finds that the methodology and mechanics of the system are ready for industry-wide electronic filing of Form 1. In addition, the Commission finds that the schedules designated below should be eliminated.

II. Background

Form 1 and 1-F information is collected pursuant to sections 304 and 309 of the Federal Power Act (FPA), 16 U.S.C. 825c and 825h. The Commission collects general corporate information: summary financial information, balance sheet and income statement supporting information, and electric plant, sales, operating expenses, and statistical data. The information is used in the review of the financial condition of regulated companies, in various rate proceedings and in the Commission's audit program. Form 1 is filed by respondents determined to be “Major Electric Utilities” and certain hydroelectric utilities under the Commission's jurisdiction. A utility is defined as a “Major Electric Utility” if it meets one of the following requirements: (1) At least one million megawatt hours of total annual sales; (2) 100 megawatt hours of annual sales for resale; (3) 500 megawatt hours of annual power exchanges delivered; or (4) 500 megawatt hours of annual wheeling for others (deliveries plus losses). For the Form 1-F, a respondent is defined as a “Nonmajor Public Utility” if it meets the following requirement: Total annual sales of 10,000 megawatt hours or more in the three previous calendar years and is not classified as “Major.” The Commission's Form 1 and 1-F filing requirements are found at 18 CFR 141.1 and 141.2.

The Forms 1 and 1-F are annual submissions from approximately 216 and 26, respectively, jurisdictional utilities and licensees.

III. Discussion

Based on a review of the Commission's need for data, and also given requests for reductions in the collections of data, the Commission is eliminating the schedules listed below:

Form 1

• Security Holders and Voting Powers (106-107).

• Construction Overheads-electric (217).

• General Description of Construction Overhead Procedure (218).

• Nonutility Property (221).

• Capital Stock Sub, Cap Stock Liability for Con, Prem. Cap Stock, & Inst Received (252).

• Discount on Capital Stock (254).

• Number of Electric Department Employees (323).

• Particulars Concerning Certain Income Deduction and Interest Charges (340).

• Electric Distribution Meters and Line Transformers (429).

• Environmental Protection Facilities (430).

• Environmental Protection Expenses (431).

Form 1-F

• Data on Security Holders and Voting Powers (Parts X and XI, P. 18).

• Nonutility Property (121, P. 110).

• Capital Stock Sub, Cap Stock Liability for Con, Prem. Cap Stock, & Inst Received (252, P. 112).

• Discount on Capital Stock (254, P. 112).

• Particulars Concerning Certain Income Deduction and Interest Charges (340, P. 117).

• Electric Distribution Meters and Line Transformers (429, lines 63 & 65, P. 206).

• Number of Electric Department Employees (P. 323).

• Construction Overheads—electric (217, P. 8 Allowance for Funds used During Construction).

On August 7, 2001, the Commission issued a Notice of Proposed Information Collection and Request for Comments on the Form 1 in Docket IC01-1-000 in the Federal Register proposing that the Form 1 be continued for an additional three years, and that the Form 1 be filed solely electronically (thus eliminating the paper copy), but that certain designated schedules be eliminated.¹ The Commission then issued a Notice of Proposed Information Collection and Request for Comments on the Form 1-F in Docket No. IC01-1F-000 in the Federal Register.² As it has indicated in the notice for the Form 1, the Commission announced in the Form 1-F notice its proposal to continue the reporting requirements for an additional three years but to eliminate designated schedules. The comments in response to the Form 1 notice commended the Commission's efforts in reducing the burden by providing for electronic submission of the Form 1. Only one commenter objected to the elimination of the schedules. None of the comments in response to the Form 1-F notice addressed the elimination of the schedules. The Office of Management and Budget (OMB) approved the 3-year extension, the electronic filing of Form 1, and the elimination of the schedules from Form 1 on March 29, 2002, and for Form 1-F on April 2, 2002.

¹ See 66 FR 41217 (Aug. 7, 2001); see also 67 FR 4243 (Jan. 29, 2002).

² See 66 FR 49945 (Oct. 1, 2001); see also 67 FR 4244 (Jan. 29, 2002).

This final rule implements those proposed changes as approved by OMB. The rule is part of the Commission's ongoing efforts to revise and streamline the Commission's existing reporting requirements. Electronic filing and elimination of the paper copy of Form 1 will reduce the burden on reporting utilities. Elimination of the designated schedules will also reduce the reporting burden. The final rule also eliminates a cross reference to one of the eliminated schedules in § 35.25.

Further notice and comment procedures are not necessary in this rulemaking docket because the Commission has already provided interested parties with an opportunity to comment on the revisions and responded to those comments in Docket Nos. IC01-1-000 and IC01-1F-000.

IV. Environmental Statement

Commission regulations require that an environmental assessment or an environmental impact statement be prepared for any Commission action that may have a significant adverse effect on the human environment.³ No environmental consideration is necessary for the promulgation of a rule that is clarifying, corrective, or procedural, or that does not substantially change the effect of legislation or regulations being amended,⁴ and also for information gathering, analysis, and dissemination.⁵ This Final Rule does not substantially change the effect of the regulation being amended. In addition, the Final Rule involves information gathering, analysis and dissemination. Therefore, this Final Rule falls within categorical exemptions provided in the Commission's regulations. Consequently, neither an environmental impact statement nor an environmental assessment is required.

³ Regulations Implementing National Environmental Policy Act, 52 FR 47897 (Dec. 17, 1987), FERC Stats. & Regs. ¶ 30,783 (1987).

⁴ 18 CFR 380.4(a)(2)(ii).

⁵ 18 CFR 380.4(a)(5).

V. Regulatory Flexibility Act

The Commission finds that most filing entities regulated by the Commission do not fall within the Regulatory Flexibility Act's definition of a small entity.⁶ Moreover, this Final Rule will reduce the reporting burden and promote consistent reporting practices for all reporting companies. Accordingly, the Commission certifies that this Final Rule will not have a significant economic impact on a substantial number of small entities.

⁶ 5 U.S.C. 601(3), citing to seciton 3 of the Small Business Act, 15 U.S.C. 632. Section 3 of the Small Business Act defines a “small-business concern” as a business which is independently owned and operated and which is not dominant in its field of operation.

VI. Information Collection Statement

The Office of Management and Budget (OMB) regulations require that OMB approve certain reporting and record keeping (collections of information) imposed by an agency. The information collection requirements in this Final Rule are contained in Form 1, “Annual Report of Major Electric Utilities and Licensees and Others” (OMB Control No. 1902-0021) and Form 1-F “Annual Report for Nonmajor Public Utilities, Licensees and Others” (OMB Control No. 1902-0029). Form 1 most recently received OMB approval on March 29, 2002 for the period through March 2005. Form 1-F received OMB approval on April 2, 2002 for the period through April 2005. As part of the renewal process for both the Form 1 and 1-F, OMB was notified that the Commission was proposing to eliminate the paper submission of the Form 1 and to eliminate the designated schedules. The electronic filing initiative is part of the Commission's ongoing program to reduce reporting requirements. As explained below, the shift to electronic filing of the Form 1 and the elimination of designated schedules will reduce the burden on regulated companies for maintaining and reporting information under the Commission's Form 1 and 1-F regulations.

Interested persons may obtain information on the reporting requirements by contacting the Federal Energy Regulatory Commission, 888 First Street, NE., Washington, DC 20426 (Attention: Michael Miller, Office of the Chief Information Officer, (202) 208-1415) or from the Office of Management and Budget, Room 10202 NEOB, Washington, DC 20503 (Attention: Desk Officer for the Federal Energy Regulatory Commission, (202) 395-7318, fax: (202) 395-7285).

The regulated entity shall not be penalized for failure to respond to this collection of information unless the collection of information displays a valid OMB control number.

Title: FERC Form 1, “Annual Report of Major Electric Utilities, Licensees and Others”; FERC Form 1-F, “Annual Report for Nonmajor Public Utilities, Licensees and Others”.

Action: Revision of Currently Approved Collections of Information.

OMB Control No.: 1902-0021 and 1902-0029.

Respondents: Jurisdictional electric utilities and licensees who have generation, transmission, distribution and/or sell electric energy within the United States and its possessions.

Frequency of Responses: Annually.

Reporting Burden: Form 1: At the time of filing for OMB renewal in January 2002, there were 216 respondents filing annually. This is an increase of 6 respondents from the Commission's last submission in 1998. The Commission's original estimate for filing the Form 1 was 1,217 hours per respondent. With the proposed changes to the Form 1, the Commission estimates that the filing per respondent will be reduced to 1,050 hours. This is a reduction of 167 hours per respondent or 28,770 in the total hours. Form 1-F: The changes to the Form 1-F through the elimination of designated schedules are offset by the increase in the number of respondents who now file the report. The increase in respondents is a result of the addition of new companies meeting the 10,000 megawatt hour and not qualifying as a major electric utility threshold. Therefore, as there is an increase in the number of respondents (from 7 to 26), notwithstanding the reduction in hours per respondents, there will be an increase in the total hours (from 224 to 832).

The Commission also estimates there will be burden cost reductions realized by the respondents and the Federal government. Previously the estimated annualized Form 1 costs to respondents was $64,049 per respondents ($13,450,290 total) and with the proposed changes, the costs should be $58,857 ($12,713,112). This should result in a savings of $5,192 per respondent. For the Federal government, the cost for processing Form 1 in 1998 was stated as $193,025 (approximately 1.6 FTE), however with the changes identified above the annual cost is estimated to be $179,828 or a savings of $13,197.

The Commission has assured itself, by means of its internal review, that there is specific, objective support for the burden estimates associated with the information requirements. These electronic filing requirements conform to the Commission's plan for efficient information collection, communication and management within the electric power industry. The changes will contribute to well-informed decision-making and streamlined workload processing.

Interested persons may obtain information on the reporting requirements by contacting the following: Federal Energy Regulatory Commission, 888 First Street, NE., Washington, DC 20426, Attention: Michael Miller, Office of the Chief Information Officer, Phone: (202) 208-1415, fax: (202) 273-0873, e-mail: michael.miller@ferc.gov.

For the submission of comments concerning the collection of information and the associated burden estimates, please send your comments to the contact listed above or to the Office of Management and Budget, Office of Information and Regulatory Affairs, Washington, DC 20503 (Attention: Desk Officer for the Federal Energy Regulatory Commission, phone (202) 395-7318, fax: (202) 395-7285).

VII. Document Availability

In addition to publishing the full text of this document in the Federal Register, the Commission provides all interested persons an opportunity to view and/or print the contents of this document via the Internet through FERC's Home Page (http://www.ferc.gov) and in FERC's Public Reference Room during normal business hours (8:30 a.m. to 5 p.m. Eastern time) at 888 First Street, NE., Room 2A, Washington, DC 20426.

From FERC's Home Page on the Internet, this information is available in both the Commission Issuance Posting System (CIPS) and the Records and Information Management System (RIMS).

—CIPS provides access to the texts of formal documents issued by the Commission since November 14, 1994

—CIPS can be accessed using the CIPS link or the Energy Information Online icon. The full text of this document is available on CIPS in ASCII and WordPerfect 8.0 format for viewing, printing, and/or downloading

—RIMS contains images of documents submitted to and issued by the Commission after November 16, 1981. Documents from November 1995 to the present can be viewed and printed from FERC's Home Page using the RIMS link or the Energy Information Online icon. Descriptions of documents back to November 16, 1981, are also available from RIMS-on-the-Web; requests for copies of these and other older documents should be submitted to the Public Reference Room.

User assistance is available for RIMS, CIPS, and the Website during normal business hours from our Help line at (202) 208-2222 (E-Mail to WebMaster@ferc.fed.us) or the Public Reference at (202) 208-1371 (E-Mail to public.referenceroom@ferc.fed.us).

During normal business hours, documents can also be viewed and/or printed in FERC's Public Reference Room, where RIMS, CIPS, and the FERC Website are available. User assistance is also available.

VIII. Effective Date and Congressional Notification

This Final Rule will take effect June 24, 2002. The Commission has determined, with the concurrence of the Administrator of the Office of Information and Regulatory Affairs of the Office of Management and Budget, that this rule is not a “major rule” within the meaning of Section 251 of the Small Business Regulatory Enforcement Fairness Act of 1996.⁷ The Commission will submit the Final Rule to both houses of Congress and the General Accounting Office.⁸

⁷ 5 U.S.C. 804(2).

⁸ 5 U.S.C. 801(a)(1)(A).

List of Subjects

18 CFR Part 35

Electric power rates, Electric utilities, Reporting and recordkeeping requirements.

18 CFR Part 141

Electric power, Reporting and recordkeeping requirements.

18 CFR Part 385

Administrative practice and procedure, Electric power, Penalties, Pipelines, Reporting and recordkeeping requirements.

By the Commission.
Magalie R. Salas,
Secretary.

In consideration of the foregoing, the Commission amends parts 35,141 and 385, Chapter I, Title 18, of the Code of Federal Regulations, as follows:

PART 35—FILING OF RATE SCHEDULES

1. The authority citation for part 35 continues to read as follows:

Authority: 16 U.S.C. 791a-825r, 2601-2645; 31 U.S.C. 9701; 42 U.S.C. 7101-7352.

§ 35.25 [Amended]

2. In § 35.25, paragraph (c)(1)(ii)(C) is removed, and paragraph (c)(1)(ii)(D) is redesignated as paragraph (c)(1)(ii)(C).

PART 141—STATEMENTS AND REPORTS (SCHEDULES)

3. The authority citation for part 141 continues to read as follows:

Authority: 15 U.S.C. 79; 16 U.S.C. 791a-828c, 2601-2645; 31 U.S.C. 9701; 42 U.S.C. 7101-7352.

4. In § 141.1, paragraphs (b)(1)(i) and (b)(2) are revised to read as follows:

§ 141.1 FERC No. Form 1, Annual report of Major electric utilities, licensees and others.

* * * * *

(b) Filing requirements. (1) Who must file-(i) Generally. Each Major electric utility (as defined in part 101 of Subchapter C of this chapter) and other entity, i.e. each corporation, person or licensee as defined in section 3 of the Federal Power Act (16 U.S.C. 792 et seq.), including any agency, authority or other legal entity or instrumentality engaged in generation, transmission, distribution, or sale of electric energy, however produced, throughout the United States and its possessions, having sales or transmission service equal to Major as defined above, whether or not the jurisdiction of the Commission is otherwise involved, shall prepare and file electronically with the Commission the FERC Form 1 pursuant to the General Instructions set out in that form.

* * * * *

(2) When to file and what to file. This report shall be filed on or before April 30 of each year for the previous calendar year. This report must be filed with the Federal Energy Regulatory Commission as prescribed in § 385.2011 of this chapter and as indicated in the General Instructions set out in this form, and must be properly completed and verified. Filing on electronic media pursuant to § 385.2011 of this chapter will be required commencing with the report required to be submitted for the reporting calendar year of 2002, due on or before April 30, 2003.

PART 385—RULES OF PRACTICE AND PROCEDURE

5. The authority citation for part 385 continues to read as follows:

Authority: 5 U.S.C. 551-557; 15 U.S.C. 717-717z, 3301-3432; 16 U.S.C 791a-825r, 2601-2645; 31 U.S.C. 9701; 42 U.S.C. 7101-7352; 49 U.S.C. 60502; 49 App. U.S.C. 1-85 (1988).

6. In § 385.2011, paragraph (c)(3) is revised to read as follows:

§ 385.2011 Procedures for filing on electronic media (Rule 2011).

* * * * *

(c) What to file. * * *

(3) With the exception of the Form 1, the electronic media must be accompanied by the traditional prescribed number of paper copies.

* * * * *

[FR Doc. 02-12798 Filed 5-22-02; 8:45 am]

BILLING CODE 6717-01-P